DEPARTMENT OF ENERGY

[Docket No. 15-190-LNG]

Rio Grande LNG, LLC; Rio Grande LNG Train 4, LLC; and Rio Grande LNG Train 5, LLC; Application for Amendment to Long-Term Authorization To Export Liquefied Natural Gas to Non-Free Trade Agreement Nations

AGENCY: Hydrocarbons and Geothermal Energy Office, Department of Energy.

ACTION: Notice of application.

SUMMARY: The Hydrocarbons and Geothermal Energy Office (HGEO) (formerly the Office of Fossil Energy and Carbon Management) of the Department of Energy (DOE) gives notice (Notice) of receipt of an application (Application), filed by Rio Grande LNG, LLC (RGLNG); Rio Grande LNG Train 4, LLC (RGLNG4); and Rio Grande LNG Train 5, LLC (RGLNG5) (collectively, the RGLNG Entities) on December 17, 2025. The RGLNG Entities ask DOE to amend their existing authorization to export domestically produced liquefied natural gas (LNG) from the Rio Grande LNG Terminal (Terminal), currently under construction in Cameron County, Texas, to non-free trade agreement countries set forth in DOE/FE Order No. 4492 (as amended)—specifically, to authorize additional exports totaling 242.26 billion cubic feet per year (Bcf/yr). The RGLNG Entities filed the Application under the Natural Gas Act (NGA).

DATES: Protests, motions to intervene, or notices of intervention, as applicable, and written comments are to be filed electronically as detailed in the Public Comment Procedures section no later than 4:30 p.m., Eastern time, March 27, 2026.

ADDRESSES:

Electronic Filing by Email (Strongly Encouraged): fergas@hq.doe.gov.

Postal Mail, Hand Delivery, or Private Delivery Services (e.g., FedEx, UPS, etc.) U.S. Department of Energy (EX-34), Office of Global Energy Security, Hydrocarbons and Geothermal Energy Office, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (EX-34) Office of Global Energy Security, Office of Strategic Resources, Hydrocarbons and Geothermal Energy Office, Forrestal Building, Room 3E-042, 1000 Independence Avenue SW, Washington, DC 20585, (202) 586-4749 or (202) 586-7893, jennifer.wade@hq.doe.gov or peri.ulrey@hq.doe.gov.

Cassandra Bernstein, U.S. Department of Energy (GC-76), Office of the Assistant General Counsel for Energy Delivery and Resilience, Forrestal Building, Room 6D-033, 1000 Independence Avenue SW, Washington, DC 20585, (240) 780-1691, cassandra.bernstein@hq.doe.gov.

SUPPLEMENTARY INFORMATION: On February 10, 2020, in Order No. 4492, as amended (Order),¹ DOE's Office of Fossil Energy and Carbon Management (now known as the Hydrocarbons and Geothermal Energy Office) ² authorized the RGLNG Entities to export domestically produced LNG in a volume equivalent to 1,318 Bcf/yr of natural gas by vessel from the proposed Terminal, to be located in Cameron County, Texas, to any country with which the United States has not entered into a free trade agreement (FTA) requiring national treatment for trade in natural gas, and with which trade is not prohibited by U.S. law or policy (non-FTA countries), pursuant to NGA section 3(a).³ This Order, as amended, extends through December 31, 2050.⁴

¹ Rio Grande LNG, LLC, et al., DOE/FE Order No. 4492, Docket No. 15-190-LNG, Opinion and Order Granting Long-Term Authorization to Export Liquefied Natural Gas to Non-Free Trade Agreement Nations (Feb. 10, 2020), amended by DOE/FE Order No. 4492-A (Oct. 21, 2020) (extending export term), further amended by DOE/FECM Order No. 4492-B (Aug. 20, 2025) (adding authorization holders). DOE initially issued this order to RGLNG, but on August 20, 2025, DOE granted the RGLNG Entities' request to add RGLNG4 and RGLNG5 as joint authorization holders. See Rio Grande LNG, LLC, et al., DOE/FECM Order Nos. 3869-A and 4492-B, Docket No. 15-190-LNG, Order Granting Request to Amend Authorizations to Export Liquefied Natural Gas to Add Authorization Holders (Aug. 20, 2025).

² The Office of Fossil Energy (FE) changed its name to the Office of Fossil Energy and Carbon Management (FECM) on July 4, 2021. Subsequently, on November 20, 2025, FECM changed its name to the Hydrocarbons and Geothermal Energy Office (HGEO). DOE uses the acronym in effect at the time of each order or action discussed herein.

³ 15 U.S.C. 717b(a).

⁴ See Rio Grande LNG, LLC, DOE/FE Order No. 4492-A, at 9-10.

In the Application,⁵ as relevant here,⁶ the RGLNG Entities ask DOE to make two amendments to their authorized export volume in Order No. 4492, as follows:

⁵ Rio Grande LNG, LLC, et al., Application for Amendment to Authorizations to Export Liquefied Natural Gas to Free Trade and Non-Free Trade Agreement Countries, Docket No. 15-190-LNG (Dec. 17, 2025) [hereinafter App.].

⁶ This Notice applies only to the portion of the Application requesting an amendment to the RGLNG Entities' non-FTA authorization under NGA section 3(a). DOE will review the portion of the Application requesting an amendment to their existing authorization to export LNG to FTA countries separately pursuant to NGA section 3(c), 15 U.S.C. 717b(c).

(1) The RGLNG Entities state that their original application for export authorization in 2015 “utilized a conservative conversion factor of 48.7 Bcf per million metric tons of natural gas.” ⁷ They request that DOE amend the Order to use DOE's “standard conversion factor `of 51.75 Bcf per million metric tons of dry natural gas.' ” ⁸ The RGLNG Entities state that, using DOE's conversion factor, the Terminal's current LNG production capacity of 27 million metric tons per annum (mtpa), authorized by the Federal Energy Regulatory Commission (FERC), would equate to 1,397.25 Bcf/yr of natural gas, resulting in a “nominal increase” of 79.25 Bcf/yr of natural gas over the authorized export volume of 1,318 Bcf/yr of natural gas in the Order.⁹

⁷ App. at 5-6; see also id. at 4.

⁸ Id. at 5 & n.16 (quoting U.S. Dep't of Energy, Small-Scale Natural Gas Exports; Notice of Proposed Rulemaking, 82 FR 41570, 41573 (Sept. 1, 2017) (“When converting from million metric tons to billion cubic feet, DOE uses a conversion factor of 51.75 Bcf per million metric tons of dry natural gas.”). The RGLNG Entities also cite other proceedings in which DOE used this conversion factor. See id.

⁹ See id. at 6.

(2) The RGLNG Entities also request an additional increase of 163.01 Bcf/yr to their authorized export volume in the Order, “consistent with an anticipated increase in the Terminal's maximum LNG production capacity under peak operating conditions up to 30.15 MTPA, for which approval is currently pending before FERC.” ¹⁰

¹⁰ Id. at 2; see also id. at 6.

In total, the requested amendments of 79.25 and 163.01 Bcf/yr, respectively, represent an increase of 242.26 Bcf/yr of natural gas in the authorized non-FTA volume under the Order—from 1,318 Bcf/yr to 1,560.26 Bcf/yr of natural gas.¹¹ The RGLNG Entities state that this proposed increase in their non-FTA export volume will not require the construction of any new facilities or the modification of the previously authorized Terminal facilities.

¹¹ See id. at 2, 6.

Additional details can be found in the RGLNG Entities' Application, posted on the DOE website at https://www.energy.gov/sites/default/files/2025-12/RGLNG%20Entities%20DOE%20Uprate%20Application.pdf.

DOE Evaluation

In reviewing the Application, DOE will consider any issues required by law or policy under NGA section 3(a), DOE's regulations, and any other documents deemed appropriate.

Parties that may oppose the Application should address these issues and documents in their comments and/or protests, as well as other issues deemed relevant to the Application.

The National Environmental Policy Act (NEPA), 42 U.S.C. 4321 et seq., requires DOE to give appropriate consideration to the environmental effects of its proposed decisions. No final decision will be issued in this proceeding until DOE has met its NEPA responsibilities.

Public Comment Procedures

In response to this Notice, any person may file a protest, comments, or a motion to intervene or notice of intervention, as applicable, addressing the Application. Interested parties will be provided 60 days from the date of publication of this Notice in the Federal Register in which to submit comments, protests, motions to intervene, or notices of intervention.

Any person wishing to become a party to this proceeding evaluating the Application must file a motion to intervene or notice of intervention.¹² The filing of comments or a protest with respect to the Application will not serve to make the commenter or protestant a party to this proceeding, although protests and comments received from persons who are not parties will be considered in determining the appropriate action to be taken on the Application. All protests, comments, motions to intervene, or notices of intervention must meet the requirements specified by DOE's regulations in 10 CFR part 590, including the service requirements.

¹² 10 CFR 590.303.

Filings may be submitted using one of the following methods:

(1) Submitting the filing electronically at fergas@hq.doe.gov;

(2) Mailing the filing to the Office of Global Energy Security at the address listed in the ADDRESSES section; or

(3) Hand delivering the filing to the Office of Global Energy Security at the address listed in the ADDRESSES section.

For administrative efficiency, DOE prefers filings to be filed electronically. All filings must include a reference to “Docket No. 15-190-LNG” or “RGLNG Entities' Application” in the title line. Filings must be submitted in English to be considered.¹³

¹³ Executive Order 14224 of March 1, 2025, Designating English as the Official Language of the United States, 90 FR 11363 (Mar. 6, 2025).

For electronic submissions: Please include all related documents and attachments (e.g., exhibits) in the original email correspondence. Please do not include any active hyperlinks or password protection in any of the documents or attachments related to the filing. All electronic filings submitted to DOE must follow these guidelines to ensure that all documents are filed in a timely manner.

The Application, and any filed protests, motions to intervene, notices of intervention, and comments will be available electronically on the DOE website at www.energy.gov/hgeo/regulation.

A decisional record on the Application will be developed through responses to this Notice by parties, including the parties' written comments and replies thereto. Additional procedures will be used as necessary to achieve a complete understanding of the facts and issues. If an additional procedure is scheduled, notice will be provided to all parties. If no party requests additional procedures, a final Order may be issued based on the official record, including the Application and responses filed by parties pursuant to this Notice, in accordance with 10 CFR 590.316.

Signed in Washington, DC, on January 21, 2026.
Amy Sweeney,
Director, Office of Global Energy Security, Office of Strategic Resources.

[FR Doc. 2026-01407 Filed 1-23-26; 8:45 am]

BILLING CODE 6450-01-P